SECURITIES AND EXCHANGE COMMISSION

[Release No. 34-96820; File No. SR-NYSEARCA-2022-80]

Self-Regulatory Organizations; NYSE Arca, Inc.; Notice of Withdrawal of Proposed Rule Change To Amend Rule 7.19-E Concerning Pre-Trade Risk Controls

February 7, 2023.

On December 8, 2022, NYSE Arca, Inc. (“NYSE Arca”) filed with the Securities and Exchange Commission (the “Commission”), pursuant to section 19(b)(1) of the Securities Exchange Act of 1934 (“Act” or “Exchange Act”) ¹ and Rule 19b-4 thereunder ² a proposed rule change to add additional pre-trade risk controls to Rule 7.19-E. The proposed rule change was published for comment on December 20, 2022.³ On February 1, 2023, NYSE Arca withdrew the proposed rule change (SR-NYSEARCA-2022-80).

¹ 15 U.S.C. 78s(b)(1).

² 17 CFR 240.19b-4.

³ See Securities Exchange Act Release No. 96499 (December 14, 2022), 87 FR 77907 (December 20, 2022). Comments received on the proposal are available on the Commission's website at: https://www.sec.gov/comments/sr-nysearca-2022-80/srnysearca202280.htm.

For the Commission, by the Division of Trading and Markets, pursuant to delegated authority.⁴
⁴ 17 CFR 200.30-3(a)(12).
Sherry R. Haywood,
Assistant Secretary.

[FR Doc. 2023-02954 Filed 2-9-23; 8:45 am]

BILLING CODE 8011-01-P